FEDERAL TRADE COMMISSION

16 CFR Ch. I

Notice of Intent To Request Public Comments

AGENCY: Federal Trade Commission.

ACTION: Notice of intent to request public comments.

SUMMARY: As part of its systematic review of all Federal Trade Commission rules and guides, the Commission gives notice that, during 2010, it intends to request public comments on the rules listed below (“Rules”). The Commission will request comments on, among other things, the economic impact of and the continuing need for the Rules; possible conflict between the Rules and state, local, or other federal laws or regulations; and the effect of any technological, economic, or other industry changes on the Rules. Further, the Commission gives notice that, based on its current ongoing review proceedings, it is postponing regulatory review for certain rules previously scheduled for 2010 review. In addition, the Commission announces that it is accelerating its review of the Labeling Requirements for Alternative Fuels and Alternative Fueled Vehicles Rule to 2010. No Commission determination on the need for, or the substance of, the Rules should be inferred from the notice of intent to publish requests for comments. Finally, the Commission announces a revised 10-year regulatory review schedule.

DATES: Comments must be submitted on or before April 16, 2010.

FOR FURTHER INFORMATION CONTACT: Further details may be obtained from the contact person listed for the particular Rule.

SUPPLEMENTARY INFORMATION: The Commission intends to initiate a review of, and solicit public comments on, the following Rules during 2010:

(1) Retail Food Store Advertising and Marketing Practices Rule, 16 CFR 424. Agency Contact: Janice Podoll Frankle, (202) 326-3022, Federal Trade Commission, Bureau of Consumer Protection, Division of Enforcement, 600 Pennsylvania Ave., NW, Washington, DC 20580.

(2) Preservation of Consumers’ Claims and Defenses Rule, 16 CFR 433. Agency Contact: Ronald G. Isaac, (202) 326-3231, Federal Trade Commission, Bureau of Consumer Protection, Division of Financial Practices, 600 Pennsylvania Ave., NW, Washington, DC 20580.

(3) Labeling Requirements for Alternative Fuels and Alternative Fueled Vehicles Rule, 16 CFR 309. Agency Contact: Hampton Newsome, (202) 326-2889, Federal Trade Commission, Bureau of Consumer Protection, Division of Enforcement, 600 Pennsylvania Ave., NW, Washington, DC 20580.

The Commission is accelerating its review of the Labeling Requirements for Alternative Fuels and Alternative Fueled Vehicles Rule, previously scheduled for review in 2014, to ensure that FTC-required vehicle labels are consistent with the Environmental Protection Agency fuel economy labeling requirements. Additionally, because the Commission has ongoing reviews relating to a number of its rules and guides and other rulemaking proceedings, it is postponing review of the following matters previously scheduled for 2010 review: Regulations Under the Fair Packaging and Labeling Act, et al., 16 CFR 500-503; the Credit Practices Rule, 16 CFR 444; the Guides for the Advertising of Warranties and Guarantees, 16 CFR 239; and the Interpretations of the Magnuson-Moss Warranty Act, et al., 16 CFR 700-703.

A copy of the Commission’s revised regulatory review schedule for 2011 through 2020 is appended. The Commission, in its discretion, may modify or reorder the schedule in the future to incorporate new rules, or to respond to external factors (such as changes in the law) or other considerations.

Authority: 15 U.S.C. 41-58.

By direction of the Commission.

Donald S. Clark,
Secretary.

APPENDIX
REGULATORY REVIEW
MODIFIED TEN-YEAR SCHEDULE
16 CFR PART | TOPIC | YEAR TO REVIEW
14 | Administrative Interpretations, General Policy Statements, and Enforcement Policy Statements | 2011
23 | Guides for the Jewelry, Precious Metals, and Pewter Industries | 2011
239 | Guides for the Advertising of Warranties and Guarantees | 2011
300 | Rules and Regulations under the Wool Products Labeling Act | 2011
301 | Rules and Regulations under the Fur Products Labeling Act | 2011
303 | Rules and Regulations under the Textile Fiber Products Identification Act | 2011
423 | Care Labeling Rule | 2011
444 | Credit Practices Rule | 2011
700 | Interpretations of Magnuson-Moss Warranty Act | 2011
701 | Disclosure of Written Consumer Product Warranty Terms and Conditions | 2011
702 | Pre-Sale Availability of Written Warranty Terms | 2011
703 | Informal Dispute Settlement Procedures | 2011
20 | Guides for the Rebuilt, Reconditioned and Other Used Automobile Parts Industry | 2012
233 | Guides Against Deceptive Pricing | 2012
238 | Guides Against Bait Advertising | 2012
240 | Guides for Advertising Allowances and Other Merchandising Payments and Services | 2012
251 | Guide Concerning Use of the Word “Free” and Similar Representations | 2012
310 | Telemarketing Sales Rule | 2013
500 | Regulations Under Section 4 of the Fair Packaging and Labeling Act (FPLA) | 2013
501 | Exemptions from Part 500 of the FPLA | 2013
502 | Regulations Under Section 5(c) of the FPLA | 2013
503 | Statements of General Policy or Interpretations Under the FPLA | 2013
801 | Hart-Scott-Rodino Antitrust Improvements Act Coverage Rules | 2013
802 | Hart-Scott-Rodino Antitrust Improvements Act Exemption Rules | 2013
803 | Hart-Scott-Rodino Antitrust Improvements Act Transmittal Rules | 2013
304 | Rules and Regulations under the Hobby Protection Act | 2014
314 | Standards for Safeguarding Customer Information | 2014
315 | Contact Lens Rule | 2015
316 | Rules Implementing the CAN-SPAM Act of 2003 | 2015
456 | Ophthalmic Practice Rules | 2015
603 | Fair Credit Reporting Act (FCRA) Rules - Definitions | 2015
610 | FCRA Rules - Free Annual File Disclosures | 2015
611 | FCRA Rules - Prohibition Against Circumventing Treatment as a Nationwide Consumer Reporting Agency | 2015
613 | FCRA Rules - Duration of Active Duty Alerts | 2015
614 | FCRA Rules - Appropriate Proof of Identity | 2015
698 | FCRA Rules - Summaries, Notices, and Forms | 2015
460 | Labeling and Advertising of Home Insulation | 2016
642 | FCRA Rules - Prescreen Opt-Out Notice | 2016
682 | FCRA Rules - Disposal of Consumer Report Information and Records | 2016
312 | Children’s Online Privacy Protection Rule | 2017
410 | Deceptive Advertising as to Sizes of Viewable Pictures Shown by Television Receiving Sets | 2017
18 | Guides for the Nursery Industry | 2018
305 | Appliance Labeling Rule | 2018
311 | Test Procedures and Labeling Standards for Recycled Oil | 2018
436 | Disclosure Requirements and Prohibitions Concerning Franchising | 2018
641 | FCRA Rules - Duties of Users of Consumer Reports Regarding Address Discrepancies | 2018
680 | FCRA Rules - Affiliate Marketing | 2018
681 | FCRA Rules - Identity Theft Rules | 2018
24 | Guides for Select Leather and Imitation Leather Products | 2019
453 | Funeral Industry Practices Rule | 2019
255 | Guides Concerning Use of Endorsements and Testimonials in Advertising | 2020
313 | Privacy of Consumer Financial Information | 2020
317 | Prohibition of Energy Market Manipulation Rule | 2020
318 | Health Breach Notification Rule | 2020
901 | FDCPA - Procedures for State Application for Exemption From the Provisions of the Act | 2020

[FR Doc. 2010-5746 Filed 3-16-10; 8:45 am]

BILLING CODE 6750-01-S